COMMODITY FUTURES TRADING COMMISSION

Notice of Sunshine Act Meetings

AGENCY: Commodity Futures Trading Commission.

TIME AND DATE: 10:00 a.m., Friday, November 15, 2013.

PLACE: 1155 21st St. NW., Washington, DC, 9th Floor Commission Conference Room.

STATUS: Closed.

MATTERS TO BE CONSIDERED: Surveillance, Enforcement Matters, and Examinations. In the event that the times, dates or locations of this or any future meetings change, an announcement of the change, along with the new time, date and location of the meeting will be posted on the Commission's Web site at http://www.cftc.gov.

CONTACT PERSON FOR MORE INFORMATION: Melissa D. Jurgens, 202-418-5516.

Natise Stowe,
Executive Assistant.

[FR Doc. 2013-25269 Filed 10-23-13; 11:15 am]

BILLING CODE 6351-01-P